DEPARTMENT OF COMMERCE

National Oceanic and Atmospheric Administration

RIN 0648-XG93

Fisheries in the Western Pacific; Marine Conservation Plan for Pacific Insular Areas; Western Pacific Sustainable Fisheries Fund

AGENCY: National Marine Fisheries Service (NMFS), National Oceanic and Atmospheric Administration (NOAA), Commerce.

ACTION: Notice of agency decision.

SUMMARY: NMFS announces the approval of a three-year marine conservation plan (MCP) for Pacific Insular Areas other than American Samoa, Guam, and the Northern Mariana Islands.

DATES: This agency decision is effective April 11, 2008.

ADDRESSES: Copies of the marine conservation plan are available from the Western Pacific Fishery Management Council (Council), 1164 Bishop St., Suite 1400, Honolulu, HI 96813, tel. 808-522-8220, fax 808-522-8226.

FOR FURTHER INFORMATION CONTACT: Alvin Katekaru, NMFS Pacific Islands Regional Office, 808-944-2207.

SUPPLEMENTARY INFORMATION: Under section 204(e)of the Magnuson-Stevens Fishery Conservation and Management Act (Magnuson-Stevens Act), the Secretary of State, with the concurrence of the Secretary of Commerce (Secretary) and in consultation with the Council, may negotiate and enter into a Pacific Insular Area fishery agreement (PIAFA) to allow foreign fishing within the U.S. Exclusive Economic Zone (EEZ) adjacent to any Pacific Insular Area other than American Samoa, Guam, or the Northern Mariana Islands, which, by definition, does not include the State of Hawaii. Prior to entering into a PIAFA, the Council shall develop a three-year Marine Conservation Plan (MCP) providing details on uses for funds to be collected by the Secretary under the PIAFA. The Magnuson-Stevens Act authorizes that any payment received under a PIAFA in support of conservation and management objectives in an MCP developed by the Council and, in the case of violations by foreign vessels occurring within the EEZ off any Pacific Insular Area (other than American Samoa, Guam, or the Northern Mariana Islands), any amounts received by the Secretary attributable to fines and penalties imposed under the Magnuson-Stevens Act, shall be deposited into the Western Pacific Sustainable Fisheries Fund for use by the Council.

The MCP to be approved by the Secretary must be consistent with the Council's fishery management plans, must identify conservation and management objectives (including criteria for determining when such objectives have been met), and must prioritize planned marine conservation projects. Although no foreign fishing is being contemplated at this time, the Council has developed an MCP for the Pacific Insular Areas here defined as the EEZ around Johnston and Palmyra Atolls, Kingman Reef, and Jarvis, Howland, Baker, and Wake Islands. These areas are sometimes known as the “Pacific remote island areas” or “U.S. island possessions in the Central Pacific Ocean.”

At its 139th meeting held in October 2007, the Council approved its “Western Pacific Sustainable Fisheries Fund Marine Conservation Plan,” dated August 29, 2007. The MCP contains seven objectives:

1. Support quality research and obtain the most complete scientific information available to assess and manage fisheries;

2. Promote an ecosystem approach in fisheries management, including reducing waste in fisheries and minimizing impacts on marine habitats and impacts on protected species;

3. Conduct education and outreach to foster good stewardship principles and broad and direct public participation in the Council's decision-making process;

4. Recognize the importance of island cultures and traditional fishing practices in managing fishery resources, and foster opportunities for participation;

5. Promote environmentally-responsible fishing and the utilization of sustainable fisheries that provide long-term economic growth and stability;

6. Promote regional cooperation to manage domestic and international fisheries; and

7. Encourage development of technologies and methods to achieve the most effective level of monitoring, control, and surveillance, and to ensure safety at sea.

The MCP also identifies major task areas that include data collection and monitoring, management, biological research and assessment, social economic research and assessment, policy development, protected species, public outreach, etc., within which projects are ranked in order of priority.

On November 6, 2007, the Council transmitted its MCP to NMFS (designee of the Secretary) for approval. This notice announces that NMFS has determined that the Council's MCP satisfies the requirements of the Magnuson-Stevens Act, and that NMFS has approved the MCP for the three-year period from April 11, 2008, through April 10, 2011.

Dated: April 14, 2008.
Alan D. Risenhoover,
Acting Director, Office of Sustainable Fisheries, National Marine Fisheries Service.

[FR Doc. 08-1150 Filed 4-15-08; 2:24 pm]

BILLING CODE 3510-22-S